DEPARTMENT OF TRANSPORTATION

Federal Aviation Administration

[Application 15-10-C-00-TPA]

Notice of Intent To Rule on Application To Impose and Use the Revenue From a Passenger Facility Charge at Tampa International Airport, Tampa, Florida

AGENCY: Federal Aviation Administration (FAA), DOT.

ACTION: Notice of intent to rule on application.

SUMMARY: The FAA proposes to rule and invites public comment on the application to impose and use the revenue from a Passenger Facility Charge (PFC) at Tampa International Airport.

DATES: Comments must be received on or before May 7, 2015.

ADDRESSES: Comments on this application may be mailed or delivered in triplicate to the FAA at the following address: Orlando Airports District Office, 5950 Hazeltine National Drive, Suite 400, Orlando, Florida, 32822-5024.

In addition, one copy of any comments submitted to the FAA must be mailed or delivered to Joseph W. Lopano, Executive Officer of the Hillsborough County Aviation Authority at the following address: P.O. Box 22287, Tampa, Florida 33622. Air carriers and foreign air carriers may submit copies of written comments previously provided to the Hillsborough County Aviation Authority under section 158.23 of part 158.

FOR FURTHER INFORMATION CONTACT: Ms. Marisol Elliott, Program Manager, FAA Orlando Airports District Office, 5950 Hazeltine National Drive, Suite 400, Orlando, Florida, 32822-5024, (407) 812-6331, ext. 117. The application may be reviewed in person at this same location.

SUPPLEMENTARY INFORMATION: The FAA proposes to rule and invites public comment on the application to impose and use the revenue from a PFC at Tampa International Airport under the provisions of the 49 U.S.C. 40117 and part 158 of the Federal Aviation Regulations (14 CFR part 158).

On February 27, 2015, the FAA determined that the application to impose and use the revenue from a PFC submitted by the Hillsborough County Aviation Authority was substantially complete within the requirements of section 158.25 of part 158.

The FAA will approve or disapprove the application, in whole or in part, not later than May 29, 2015.

The following is a brief overview of the application:

Proposed charge effective date: October 2, 2020.

Proposed charge expiration date: October 1, 2035.

Level of the proposed PFC: $4.50.

Total estimated PFC revenue: $506,751,787.

Brief description of proposed project(s): Airport Automated People Mover (APM) System; Reconstruction of the Taxiway J Bridge; South Terminal support Area Roadway Improvements; Taxiway J Runway Guard Lights; and East Airfield Pavement Rehabilitation.

Class or classes of air carriers which the public agency has requested not be required to collect PFCs: None.

Any person may inspect the application in person at the FAA office listed above under FOR FURTHER INFORMATION CONTACT and at the FAA Regional Airports office located at: FAA Southern Region Headquarters, 1701 Columbia Avenue, College Park, Georgia 30337.

In addition, any person may, upon request, inspect the application, notice and other documents germane to the application in person at the offices of the Hillsborough County Aviation Authority.

Issued in Orlando, Florida on March 31, 2015.
Bart Vernace,
Manager, Orlando Airports District Office.

[FR Doc. 2015-07838 Filed 4-6-15; 8:45 am]

BILLING CODE CODE 4910-13-P